DEPARTMENT OF ENERGY

Federal Energy Regulatory Commission

[Docket No. EC02-95-000, et al.]

Astoria Generating Company, L.P., et al.; Electric Rate and Corporate Regulation Filings

July 25, 2002.

The following filings have been made with the Commission. The filings are listed in ascending order within each docket classification.

1. Astoria Generating Company, L.P.; Carr Street Generating Station, L.P.; Erie Boulevard Hydropower, L.P.; Orion Power MidWest, L.P.; Twelvepole Creek, LLC

[Docket No. EC02-95-000]

Take notice that on July 19, 2002, Astoria Generating Company, L.P., Carr Street Generating Station, L.P., Erie Boulevard Hydropower, L.P., Orion Power MidWest, L.P., and Twelvepole Creek, LLC (collectively, the Applicants), submitted an application pursuant to Section 203 of the Federal Power Act, seeking authorization for a proposed internal corporate reorganization that would result in the transfer of indirect control of Applicants and their jurisdictional facilities, and requesting expedited consideration of their Application and certain waivers.

The Applicants state that, as a result of a restructured financing arrangement of one of Applicants' parent companies, there will be a transfer of indirect control of Applicants' jurisdictional facilities. The Applicants further state that the proposed transaction will have no effect on competition, rates or regulation and is in the public interest.

Comment Date: August 16, 2002.

2. Ameren Services Company, on behalf of the Public Utility Company Subsidiaries of Ameren Corporation, Central Illinois Light Company, and Medina Valley Cogen, L.L.C.

[Docket No. EC02-96-000]

Take notice that on July 19, 2002 Ameren Services Company on behalf of the public utilities owned wholly or partially by Ameren Corporation (Ameren Corp.), Central Illinois Light Company (CILCO), an unaffiliated public utility, and AES Medina Valley Cogen, L.L.C. (Medina), an exempt wholesale generator affiliated with CILCO, tendered for filing with the Federal Energy Regulatory Commission (Commission), a joint application pursuant to section 203 of the Federal Power Act (Act), 16 U.S.C. 824b (2000), and part 33 of the Commission's regulations, 18 CFR part 33, to request the Commission to authorize Ameren Corporation to acquire CILCO and Medina (collectively, Applicants). Ameren will acquire from AES all of the issued and outstanding shares of common stock of CILCORP, the parent company of CILCO and all of the issued and outstanding units of the membership interest in AES Medina Valley Cogen (No. 4), L.L.C., which is the parent company of Medina Valley Cogen (No. 2), L.L.C. and which, in turn, is the parent company of AES Medina Valley Cogen, L.L.C. AES Medina Valley Cogen (No. 4), L.L.C. is also the parent company of AES Medina Valley Operations, L.L.C. After the Transaction closes, all of these entities will continue to exist as separate companies.

Applicants state that they have served the application on all required parties.

Comment Date: September 17, 2002.

3. San Diego Gas & Electric Company

[Docket No. ER02-1557-000]

Take notice that on July 22, 2002 San Diego Gas & Electric Company (SDG&E) tendered for filing with the Federal Energy Regulatory Commission (Commission), Amendment No. 1 to Service Agreement No. 3 to SDG&E's FERC Electric Tariff, First Revised Volume No. 6.

The Amendment No. 1, incorporates a change to the rate of the Operating & Maintenance (O&M) charges to be paid by RAMCO Chula Vista to SDG&E. The change in O&M rate was approved by the Commission in a letter order dated June 11, 2002.

SDG&E states in its filing that copies of the Amendment No. 1 have been served on RAMCO, Inc.

Comment Date: August 12, 2002.

4. Central Power and Light Company

[Docket No. ER02-2346-000]

Take notice that on July 22, 2002, Central Power and Light Company (CPL) submitted for filing the Interconnection Agreement, dated February 1, 2002, between CPL and Pedernales Electric Cooperative, Inc. (Pedernales) amended to include two new points of interconnection to be established between the parties at Pedernales' Rocksprings Substation.

CPL seeks an effective date of November 1, 2002 for the Interconnection Agreement.

CPL served copies of the filing on Pedernales and the Public Utility Commission of Texas.

Comment Date: August 12, 2002.

5. American Electric Power Service Corporation

[Docket No. ER02-2347-000]

Take notice that on July 22, 2002, the American Electric Power Service Corporation (AEPSC) tendered for filing an executed Interconnection and Operation Agreement between Ohio Power Company and Biomass Energy, LLC. The agreement is pursuant to the AEP Companies' Open Access Transmission Service Tariff (OATT) that has been designated as the Operating Companies of the American Electric Power System FERC Electric Tariff Second Revised Volume No. 6, effective June 15, 2000.

AEP requests an effective date of September 17, 2002.

A copy of the filing was served upon Biomass Energy, LLC and the Public Utilities Commission of Ohio.

Comment Date: August 12, 2002.

6. Cleco Power LLC

[Docket No. ER02-2348-000]

Take notice that on July 22, 2002, Cleco Power LLC, tendered for filing a revised market-based rates tariff under Cleco Power LLC, FERC Electric Tariff, First Revised Volume No. 2, Superceding Cleco Power LLC, FERC Electric Tariff, Original Volume No. 2.

Comment Date: August 12, 2002.

7. Allegheny Energy Service Corporation on behalf of Monongahela Power Company, The Potomac Edison Company, and West Penn Power Company (Allegheny Power)

[Docket No. ER02-2349-000]

Take notice that on July 22, 2002, Allegheny Energy Service Corporation on behalf of Monongahela Power Company, The Potomac Edison Company, and West Penn Power Company (Allegheny Power), filed an Interconnection Agreement (Agreement) with Backbone Mountain Windpower, LLC as Service Agreement No. 394 under Allegheny Power's Open Access Transmission Tariff.

Allegheny Power requests an effective date for the Agreement of September 20, 2002.

Comment Date: August 12, 2002.

8. NorthWestern Energy

[Docket No. ER02-2350-000]

Take notice that on July 22, 2002, NorthWestern Energy (NWE, formally The Montana Power Company) tendered for filing with the Federal Energy Regulatory Commission (Commission) pursuant to 18 CFR 35.13, an executed Firm and Non-Firm Point-To-Point Transmission Service Agreement with Morgan Stanley Capital Group, Inc. (Morgan Stanley) under NWE's FERC Electric Tariff, Fourth Revised Volume No. 5 (Open Access Transmission Tariff).

A copy of the filing was served upon Morgan Stanley.

Comment Date: August 12, 2002.

9. Westar Energy, Inc.

[Docket ER02-2351-000]

Take notice that on July 22, 2002, Westar Energy (WE) (formerly known as Kansas Gas & Electric Company) submitted for filing a Notice of Cancellation for Service Agreement No. 149, effective under WE's FERC Rate Schedule between WE and the City of Coffeyville, Kansas.

WE requests an effective date of October 1, 2002 for the cancellation of Service Agreement No. 149.

Copies of this filing were served on City of Coffeyville, Kansas and the Kansas Corporation Commission.

Comment Date: August 12, 2002.

10. Consumers Energy Company

[Docket No. ER02-2352-000]

Take notice that on July 22, 2002, Consumers Energy Company (Consumers) tendered for filing an executed service agreement for unbundled wholesale power service with UtiliCorp Power Services (now known as Aquila, Inc. d/b/a Aquila Networks) pursuant to Consumers' Market Based Power Sales Tariff accepted for filing in Docket No. ER98-4421-000.

Copies of the filing have been served on the Michigan Public Service Commission and the customers under the service agreement.

Comment Date: August 12, 2002.

11. Consumers Energy Company

[Docket No. ER02-2353-000]

Take notice that on July 22, 2002, Consumers Energy Company (Consumers) tendered for filing an executed service agreement for unbundled wholesale power service with TransAlta Energy Marketing (U.S.) Inc. pursuant to Consumers' Market Based Power Sales Tariff accepted for filing in Docket No. ER98-4421-000.

Copies of the filing have been served on the Michigan Public Service Commission and the customers under the service agreement.

Comment Date: August 12, 2002.

12. Southern California Edison Company

[Docket No. ER02-2354-000]

Take notice that on July 22, 2002, Southern California Edison Company (SCE) tenders for filing revised rate sheets (Revised Sheets) to the Service Agreement and Interconnection Facilities Agreement between SCE and the City of Colton, under the Wholesale Distribution Access Tariff, FERC Electric Tariff, Original Volume No. 5. The Revised Sheets reflect the one-year extension of the services agreed to.

SCE respectfully requests the Commission to assign an effective date of July 23, 2002 to the Agreements.

Copies of this filing were served upon the Public Utilities Commission of the State of California and Colton.

Comment Date: August 12, 2002.

13. SES Ltd. Co.

[Docket No. ER02-2356-000]

Take notice that on July 22, 2002, SES Ltd. Co. (SES) tendered a filing with the Federal Energy Regulatory Commission (Commission) a petition for acceptance of SES Rate Schedule FERC No. 1; the granting of certain blanket approvals, including the authority to sell electricity at market-based rates; and the waiver of certain Commission regulations.

SES intends to engage in wholesale electric power and energy purchases and sales as a marketer. SES is not in the business of generating or transmitting electric power. SES is a minority owned LLC whose principles have numerous years of energy experience including power marketing, natural gas origination and derivative trading.

Comment Date: August 12, 2002.

14. Central Power and Light Company; West Texas Utilities Company

[Docket No. ER02-2357-000]

Take notice that on July 22, 2002, American Electric Power Service Corporation (AEPSC), acting as agent for Central Power and Light Company (CPL) and West Texas Utilities Company (WTU) submitted for filing an Interconnection Agreement, dated July 5, 2002, between CPL and Comisión Federal de Electricidad (CFE) and an Interconnection Agreement, dated July 5, 2002 between WTU and CFE.

CPL and WTU seek an effective date of July 5, 2002 for these interconnection agreements.

Comment Date: August 12, 2002.

15. Visteon Systems, LLC

[Docket No. ER02-2358-000]

Take notice that on July 22, 2002, Visteon Systems, LLC has tendered for filing with the Federal Energy Regulatory Commission (Commission) an Application for Order Granting Market-Based Rate Authority and FERC Electric Service Tariff, Visteon Systems, LLC FERC Electric Rate Schedule No. 1. Visteon Systems, LLC owns 10 MW of generating capacity for which it proposes to make sales at market-based rates of energy capacity and ancillary services.

Comment Date: August 12, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-19308 Filed 7-30-02; 8:45 am]

BILLING CODE 6717-01-P